NUCLEAR REGULATORY COMMISSION

Advisory Committee on the Medical Uses of Isotopes: Call for Nominations

AGENCY: U.S. Nuclear Regulatory Commission.

ACTION: Call for Nominations.

SUMMARY: The U.S. Nuclear Regulatory Commission (NRC) is advertising for nominations for the position of radiation oncology physician, specialized in gamma steriotactic radiosurgery on the Advisory Committee on the Medical Uses of Isotopes (ACMUI).

DATES: Nominations are due on or before May 15, 2006.

ADDRESSES: Submit four copies of your resume or curriculum vitae to the Office of Human Resources, Attn: Ms. Joyce Riner, Mail Stop T2D32, U.S. Nuclear Regulatory Commission, Washington, DC 20555.

FOR FURTHER INFORMATION CONTACT: Mohammad S. Saba, Office of Nuclear Material Safety and Safeguards, U.S. Nuclear Regulatory Commission, Washington, DC 20555; telephone (301) 415-7608; e-mail mss@nrc.gov.

SUPPLEMENTARY INFORMATION: The ACMUI advises NRC on policy and technical issues that arise in the regulation of the medical use of byproduct material. Responsibilities include providing comments on changes to NRC rules, regulations, and guidance documents; evaluating certain non-routine uses of byproduct material; providing technical assistance in licensing, inspection, and enforcement cases; and bringing key issues to the attention of NRC, for appropriate action.

ACMUI members possess the medical or technical skills needed to address evolving issues. The current membership is comprised of the following professionals: (a) Nuclear medicine physician; (b) nuclear cardiologist; (c) medical physicist in nuclear medicine unsealed byproduct material; (d) therapy medical physicist; (e) radiation safety officer; (f) nuclear pharmacist; (g) two radiation oncologists; (h) patients' rights advocate; (i) Food and Drug Administration representative; (j) Agreement State representative; and (k) health care administrator.

NRC is inviting nominations for the radiation oncologist physician appointment to the ACMUI. The term of the individual currently occupying this position will end September 30, 2006. Committee members will serve a 4-year term. Committee members may be considered for reappointment to one additional term.

Nominees must be U.S. citizens and be able to devote approximately 160 hours per year to Committee business. Members who are not Federal employees are compensated for their service. In addition, members are reimbursed travel (including per-diem in lieu of subsistence) and are reimbursed secretarial and correspondence expenses. Full-time Federal employees are reimbursed travel expenses only.

Security Background Check: Nominees will undergo a thorough security background check to obtain the security clearance that is mandatory for all ACMUI members. This check will include a requirement to complete financial disclosure statements to avoid conflict-of-interest issues. The security background check will involve the completion and submission of paperwork to NRC and will take approximately four weeks to complete.

Dated at Rockville, Maryland this 9th day of March, 2006.
For the Nuclear Regulatory Commission.
Andrew L. Bates,
Advisory Committee Management Officer.

[FR Doc. E6-3716 Filed 3-14-06; 8:45 am]

BILLING CODE 7590-01-P